DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div., Code OOL, Bldg. 2, 300 Highway 361, Crane, IN 47522-5001.

FOR FURTHER INFORMATION CONTACT: Mr. Christopher Monsey, Naval Surface Warfare Center, Crane Div., Code OOL, Bldg. 2, 300 Highway 361, Crane, IN 47522-5001, Email Christopher.Monsey@navy.mil, 812-854-2777.

SUPPLEMENTARY INFORMATION: The following patents are available for licensing: Patent No. 10,156,426 (Navy Case No. 102280): APPARATUS AND METHODS FOR PARALLEL TESTING OF DEVICES// and Patent No. 10,161,979 (Navy Case No. 103102): SYSTEM FOR PRECIPITATION-STATIC CHARGE LEVEL ESTIMATION FOR SURFACE DAMAGE TO DIELECTRICALLY COATED SURFACES.

Authority: 35 U.S.C. 207, 37 CFR part 404.

Dated: January 28, 2019.
M.S. Werner,
Commander, Judge Advocate General's Corps, U.S. Navy, Federal Register Liaison Officer.

[FR Doc. 2019-00373 Filed 1-30-19; 8:45 am]

BILLING CODE 3810-FF-P